DEPARTMENT OF TRANSPORTATION

Pipeline and Hazardous Materials Safety Administration

Hazardous Materials: Notice of Actions on Special Permits

AGENCY: Pipeline and Hazardous Materials Safety Administration (PHMSA), Transportation (DOT).

ACTION: Notice of actions on special permit applications.

SUMMARY: In accordance with the procedures governing the application for, and the processing of, special permits from the Department of Transportation's Hazardous Material Regulations, notice is hereby given that the Office of Hazardous Materials Safety has received the application described herein.

DATES: Comments must be received on or before April 8, 2022.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on March 02, 2022.
Donald P. Burger,
Chief, General Approvals and Permits Branch.

Application No. | Applicant | Regulation(s) affected | Nature of the special permits thereof
Special Permits Data—Granted
10511-M | Schlumberger Technology Corp | 173.304a | To modify the special permit to authorize an additional packaging configuration.
11650-M | Autoliv Asp, Inc | 173.301(a)(1), 173.302(a) | To modify the special permit to authorize cylinder weld studs.
13112-M | Cobham Mission Systems Orchard Park Inc | 173.302a(a)(1) | To modify the special permit to update the drawing revision number of the packaging.
14919-M | Joyson Safety Systems Acquisition LLC | 173.301(a)(1), 173.302a, 178.65(f)(2) | To modify the special permit to authorize a different pressure test and alternative safety control measures.
20907-M | Versum Materials Us, LLC | 171.23(a)(1), 171.23(a)(3) | To modify the special permit to replace paragraph 7.b.(6) with a 5-year service life restriction.
20963-M | Lg Energy Solution Wroclaw SP ZOO | 172.101(j) | To modify the special permit to include additional cells in the authorized battery modules.
21162-N | Hexagon Masterworks, Inc | 173.301(a)(1) | To authorize the transportation in commerce of partially filled composite cylinders with Hydrogen gas with a maximum charged pressure less than 5% of the COPV designed service/operating pressure.
21299-N | Orbital Sciences LLC | 172.101(j) | To authorize the transportation in commerce of lithium batteries exceeding 35 kg by cargo-only aircraft.
21310-N | Bolloré Logistics Germany Gmbh | 172.101(j), 173.301(f), 173.302a(a)(1), 173.304a(a)(2) | To authorize the transportation in commerce of certain Division 2.2 liquefied or compressed gases in non-specification packages for use in cooling applications for spacecraft and/or satellites.
21311-N | Spaceflight, Inc | 173.185(e)(3) | To authorize the transportation in commerce of prototype lithium batteries contained in equipment by motor vehicle.
21315-N | Umbra Lab, Inc | 173.185(b) | To authorize the transportation of lithium ion battery modules contained in equipment (spacecraft).
21327-N | Bolloré Logistics Germany Gmbh | 173.301, 173.301, 173.302a(a)(1), 173.304a(a)(2) | To authorize the transportation of certain non-DOT specification containers containing certain Division 2.2 and 2.3 liquefied and compressed gases.
21329-N | Environmental Protection Agency | 173.185(f)(1), 173.185(f)(3) | To authorize the transportation in commerce of waste lithium ion batteries from a Superfund Site for disposal or recycling.
Special Permits Data—Denied
21292-N | Showa Chemicals of America, Inc | 173.304a(a) | To authorize the transportation in commerce of non-DOT specification cylinders fabricated to a foreign cylinder specification.
Special Permits Data—Withdrawn
21298-N | Linde Gas & Equipment Inc | 173.301(f), 173.301(g)(1)(ii), 173.304a(c) | To authorize the transportation in commerce of UN1070, nitrous oxide, in cylinders interconnected by a manifold.
21312-N | Moxion Power Co | 172.102 | To authorize the transportation in commerce of lithium batteries installed in a cargo transport unit.
21340-N | Epic Chemistry LLC | 172.203(a), 172.301(c), 177.834(h) | To authorize discharge of certain Class 3, Division 6.1, and Class 8, and Class 9 liquids from a DOT Specification drum without removing the drum from the vehicle on which it is transported.
21341-N | Epic Chemistry LLC | 172.203(a), 172.302(c), 177.834(h) | To authorize the discharge of certain liquid hazardous materials from certain UN Intermediate Bulk Containers (IBCs) and DOT Specification 57 portable tanks without removing them from the vehicle on which they are transported.

[FR Doc. 2022-04944 Filed 3-8-22; 8:45 am]

BILLING CODE 4910-60-P